DEPARTMENT OF COMMERCE

Foreign-Trade Zones Board

[Docket 22-2004]

Foreign-Trade Zone 222—Montgomery, AL; Application For Foreign-Trade Subzone Status Quantegy, Inc. (Audio and Video Tape and Cassettes, Digital Data Media, and Instrumentation Media Products); Opelika, Alabama

An application has been submitted to the Foreign-Trade Zones Board (the Board) by the Montgomery Area Chamber of Commerce, grantee of FTZ 222, requesting special-purpose subzone status for the manufacturing facilities (audio and video tape and cassettes, digital data media, and instrumentation media products, including splice tape and paper leader) of Quantegy, Inc., located in Opelika, Alabama. The application was submitted pursuant to the Foreign-Trade Zones Act, as amended (19 U.S.C. 81a-81u), and the regulations of the Board (15 CFR part 400). It was formally filed on May 25, 2004.

The Quantegy facilities (36.7 acres, with four main buildings and more than 420,000 sq. ft. of enclosed space) are located at 2230 Marvyn Parkway in Opelika. The facilities (approximately 300 employees) produce audio and video tape and cassettes, digital data media, and instrumentation media products, including splice tape and paper leader, which Quantegy intends to manufacture, assemble, test, package, and warehouse under FTZ procedures.

Quantegy's application lists the following categories of imported parts and materials for possible use in manufacturing, assembling, testing, packaging, and warehousing audio and video tape and cassettes, digital data media, and instrumentation media products, including splice tape and paper leader: iron oxides and hydroxides; palmitic acid, stearic acid, their salts and esters; phosphoric esters and their salts, and derivatives (plasticizers); paints and varnishes based on synthetic polymers or chemically modified natural polymers; polymers of vinyl chloride or of other halogenated olefins, in primary forms; plates, sheets, film, foil, and strip of plastics (polyethylene teraphthalate); cartons, boxes, and cases of corrugated paper or cardboard; and parts and accessories for sound and video recording or reproducing apparatuses. Current duty rates for these input materials range up to 7.6 percent.

Zone procedures would exempt Quantegy from Customs duty payments on foreign components used in export production. On its domestic sales, Quantegy would be able to defer duty payments, and to choose the lower duty rate that applies to the listed finished-product categories (duty-free to 2.0 percent) for the foreign inputs listed above. Quantegy would be able to avoid duty on foreign inputs which become scrap/waste, estimated at one percent of imported inputs. The application also indicates that the company will derive savings from simplification and expediting of the company's import and export procedures. Quantegy's application states that the above-cited savings from zone procedures could help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave., NW., Washington, DC 20230.

The closing period for their receipt is August 2, 2004. Rebuttal comments in response to material submitted during the foregoing period may be submitted during the subsequent 15-day period to August 16, 2004.

A copy of the application and accompanying exhibits will be available for public inspection at the Office of the Foreign-Trade Zones Board's Executive Secretary at address Number 1 listed above, and at the Birmingham U.S. Export Assistance Center, 950 22nd Street North, Suite 707, Birmingham, AL 35203.

Dated: May 25, 2004.
Dennis Puccinelli,
Executive Secretary.

[FR Doc. 04-12290 Filed 5-28-04; 8:45 am]

BILLING CODE 3510-DS-P